DEPARTMENT OF AGRICULTURE

Grain Inspection, Packers and Stockyards Administration

United States Standards for Whole Dry Peas, Split Peas, and Lentils

AGENCY: Grain Inspection, Packers and Stockyards Administration, USDA.

ACTION: Notice; request for public comment.

SUMMARY: We plan to revise the U.S. standards for Whole Dry Peas, Split Peas, and Lentils to provide applicants for service with an optional grade designation for pea and lentil certification and to remove the requirement that, in the case of Mixed Dry Peas, the percentage of each class in the mixture be shown on the grade line.

DATES: We will consider comments that we receive by May 17, 2007.

ADDRESSES: We invite you to submit comments on this notice. You may submit comments by any of the following methods:

• E-mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC, 20250-3604.

• Federal eRulemaking Portal: Go to http://www.regulations.gov. Follow the online instructions for submitting comments.

• Instructions: All comments should refer to the date and page number of this issue of the Federal Register.

• Read Comments: All comments will be available for public inspection in the above office during regular business hours (7 CFR 1.27 (b)).

FOR FURTHER INFORMATION CONTACT: Beverly A. Whalen at USDA, GIPSA, FGIS, FMD, Suite 180, STOP 1404, 6501 Beacon Drive, Kansas City, Missouri 64133; Telephone (816) 823-4648; Fax Number (816) 823-4644; e-mail Beverly.A.Whalen@usda.gov.

SUPPLEMENTARY INFORMATION:

Background

The Agricultural Marketing Act of 1946, as amended (AMA), directs and authorizes the Secretary of Agriculture to develop and improve standards for agricultural products (7 U.S.C. 1622). These are standards of quality, condition, quantity, grade, and packaging. The intent of such standards is to encourage uniformity and consistency in commercial practices.

We establish and maintain a variety of quality and grade standards for agricultural commodities. These standards serve as the fundamental starting point to define commodity quality in the domestic and global marketplace. We provide official procedures for how inspectors determine the various grading factors in supporting handbooks, such as the Pea and Lentil Handbook. The AMA standards and supporting procedures are voluntary and widely used in private contracts, government procurement, marketing communication, and, for some commodities, consumer information.

Standards developed under the AMA include rice, whole dry peas, split peas, feed peas, lentils, and beans. The U.S. standards for Whole Dry Peas, Split Peas, Feed Peas, Lentils, and Beans do not appear in the Code of Federal Regulations (although the process by which we develop these standards is specified through the regulations in 7 CFR 868.102, Procedures for establishing and revising grade standards); however, the standards are available on the GIPSA Web site at http://www.gipsa.usda.gov/GIPSA/webapp?area=home&subject=grpi&topic=sq-ous and by contacting the Field Management Division (FMD) at the above address. We provide the official procedures for how inspectors determine the various grading factors in various supporting handbooks, such as the Pea and Lentil Handbook, which you may view and print from the GIPSA Web site at http://www.gipsa.usda.gov/GIPSA/webapp?area=home&subject=lr&topic=hb-pl.

Optional Grade Designation and Certification Procedures

We work closely with the U.S. Dry Pea and Lentil Council (USDPLC) and others in the pea and lentil industries to examine the effectiveness of the U.S. standards in today's marketing environment. It appears that the current standards continue to meet consumer and processor needs; however, both the rice and grain industries have optional certification procedures. We have determined that these certification procedures could be beneficial to the pea and lentil industries, as well.

Currently, inspectors certify peas and lentils offered for inspection as a specific quality (U.S. grade), such as U.S. No. 2 Smooth Green Dry Peas. Certifying a specific grade is commonly referred to in the rice and grain industries as “Option 1” grade designation. This works well most of the time, however, there are exceptions. At times, sellers find when preparing to load peas or lentils for shipment that the supply of a particular grade of pea or lentil may be insufficient to meet the quality and quantity requirements specified in the sales contract. When this happens, the seller may find it necessary to ship peas or lentils of a better quality. However, current inspection procedures do not allow the flexibility to describe or certify superior quality peas or lentils as being of a lower quality. If the lot presented for inspection is not uniform in quality for the declared grade, the inspector certifies each portion separately according to quality. That is, if a consignment consists of both U.S. No. 1 and 2 Smooth Green Dry Peas, current procedure requires that the quantity representing each of the different qualities receive separate certification. Such certification may not meet the terms of sale for the contract.

The U.S. standards for rice and grains offer an alternative approach that is termed “Option 2” grade designation. When a contract specifies an Option 2 grade designation, the applicant may specifically request Option 2 certification. Under Option 2 certification, there is no limitation placed on the amount of better quality grain in the lot. When a lot meets or is of better quality than the declared grade, inspectors include the term “or better” immediately following the numerical or sample grade designation.

We would like to offer the Option 2 grade designation and certification approach for peas and lentils. Under such an approach, peas or lentils that are a better quality than that specified by the contract would be certified as a specific grade “or better;” (for example, U.S. No. 2, or better, Smooth Dry Peas). The applicant for inspection can obtain the optional certification procedure by requesting it on the application for inspection. The applicant would file the request for the optional certification prior to the beginning of inspection so the inspector knows how to certify the lot. We believe that Option 2 grade designation and certification will better align the pea and lentil industries with the rice and grain industries, provide sellers with the flexibility to ship peas and lentils of better quality, and provide buyers with the desirable option of receiving better quality.

Mixed Whole Dry Peas

We also intend to eliminate the requirement that certain grade related information be shown on the grade line of the certificate for the class of Mixed Whole Dry Peas. Currently, the U.S. standards for Whole Dry Peas require a breakdown of the different classes, in order of predominance, be shown on the grade line of the certificate, in addition to the regular grade designation information, when the peas are classed as Mixed peas. Instead of showing this information on the grade line, we plan to enter such information in the “Results” section of the certificate. This approach will not change the grade of the product. We intend for the change to improve the readability of the certificate. The grade line will provide the grade designation and other related information will be provided in the “Results” section of the certificate. Further, this change in the U.S. standards for Whole Dry Peas will better align certification requirements in peas with other graded commodities such as rice, beans, and lentils.

Comments

We are requesting comments for 30 days. All comments received within the comment period will be made part of the public record we maintain, will be available to the public for review, and will be considered before we take final action.

Authority: 7 U.S.C. 1621-1627.

James E. Link,
Administrator, Grain Inspection, Packers and Stockyards Administration.

[FR Doc. E7-7241 Filed 4-16-07; 8:45 am]

BILLING CODE 3410-KD-P